DEPARTMENT OF LABOR

Employment and Training Administration

[TA-W-51,080]

H & L Tool Company, Erie, Pennsylvania; Notice of Revised Determination on Reconsideration

By letter dated April 17, 2003, a company official requested administrative reconsideration regarding the Department's Negative Determination Regarding Eligibility to Apply for Worker Adjustment Assistance, applicable to the workers of the subject firm.

The initial investigation resulted in a negative determination issued on March 31, 2003, based on the finding that workers of Burelbach Industries, Inc., Rickreal, Oregon did not meet the “upstream supplier” group eligibility requirement of section 222(b) of the Trade Act of 1974. The denial notice was published in the Federal Register on April 11, 2003 (68 FR 17830).

On review of the request for reconsideration and further review and analysis of the investigation it has become apparent that the major declining customer of the subject firm increased their reliance on imports of like or directly competitive injection molds during the relevant period. The imports accounted for a meaningful portion of the subject plant's lost sales and production.

Conclusion

After careful review of the additional facts obtained on reconsideration, I conclude that increased imports of articles like or directly competitive with those produced at H & L Tool Company, Erie, Pennsylvania, contributed importantly to the declines in sales or production and to the total or partial separation of workers at the subject firm. In accordance with the provisions of the Act, I make the following certification:

All workers of H & L Tool Company, Erie, Pennsylvania, who became totally or partially separated from employment on or after March 5, 2002 through two years from the date of this certification, are eligible to apply for adjustment assistance under section 223 of the Trade Act of 1974.

Signed in Washington, DC, this 22nd day of May 2003.
Elliott S. Kushner,
Certifying Officer, Division of Trade Adjustment Assistance.

[FR Doc. 03-13822 Filed 6-2-03; 8:45 am]

BILLING CODE 4510-30-P